DEPARTMENT OF HOUSING AND URBAN DEVELOPMENT

[Docket No. FR-4922-N-10]

Privacy Act of 1974; Establishment of a New System of Records

AGENCY: Office of the Chief Information Officer, HUD.

ACTION: Notification of the establishment of a new system of records.

SUMMARY: Pursuant to the provision of the Privacy Act of 1974, as amended (5 U.S.C. 552a), the Department of Housing and Urban Development HUD developed the Enterprise Income Verification (EIV) system, which, heretofore, was known as the Upfront Income Verification (UIV) system used by the Office of Public and Indian Housing (PIH). This system of records currently supports the administration of programs for families receiving housing assistance from HUD by Public Housing Agencies (PHAs) that administer HUD's public housing and Section 8 tenant-based rental assistance programs. EIV contains income data of Public Housing and Section 8 program participants. EIV also enables PHAs to verify participant-reported income and identifies households that may have under reported their household's annual income. Eventually, EIV will be made available to administrators (owners and management agents) of the Office of Housing's (Housing) rental assistance programs.

HUD developed the UIV system to reduce subsidy payment errors as a result of tenant under reporting of income to ensure that limited federal resources serve as many eligible families as possible. EIV will facilitate more timely and accurate verification of tenant-reported income at the time of mandatory annual and interim reexamination of household income.

EIV contains personal identifying information from HUD's Public and Indian Housing Information Center (PIC), such as Head of Households and household members name, date of birth and Social Security Number, unit address, PHA program information, and household income details as reported by the participant to the program administrator. These personal identifying data are extracted from PIC and imported into EIV. The system also contains household member(s) income details as reported by state and federal agencies. HUD obtains income details through computer matching programs.

System Security Measures: The integrity and availability of data in EIV is important. Much of the data needs to be protected from unanticipated or unintentional modification. HUD restricts the use of this information to HUD approved officials and PHAs; thus, the data is protected accordingly. Eventually, this restriction will be extended to owners and management agents.

Vulnerabilities and corresponding security measures include: (1) Only persons with PIC User Ids and passwords may access EIV; (2) Access to EIV is controlled using EIV's security module. This module controls a user's access to particular modules based on the user's role and security access level; (3) User IDs are utilized to identify access to sensitive data by users; (4) Data corruption/destruction—PHA users do not have write access to databases. HUD user's write access is limited to user administration by authorized personnel. This will eliminate the risk of data destruction or corruption.

Data Quality: PHAs enter management, building, unit, and family information into PIC. Family information includes the families' names, social security numbers (SSNs), and dates of birth. When a PHA submits family data to PIC, the EIV system will validate each household member's identity. If a household member's identity cannot be verified, EIV will (1) flag the household member record; (2) provide an error message to the PHA, informing the PHA to verify the household member's SSN, name, and/or date of birth; and (3) request the PHA to submit a corrected record (HUD Form 50058) into PIC. EIV will remove the unverified household member record from computer matching request files.

This household member identity verification feature was established to help HUD maintain data quality and integrity and to support one of its strategic objectives to prevent fraud and abuse. This identity verification feature will (1) help confirm that those families entitled to benefits receive benefits, (2) assist in limiting the duplication of benefits, and (3) help prevent the false application for benefits, thereby ensuring data quality. In addition, EIV will receive income data from State Wage Information Collection Agencies (SWICAs), federal agencies, and one or more private vendors. This will allow PHAs and, eventually, owners and management agents to verify the income of newly admitted applicants and tenants at the time of mandatory annual and/or interim reexaminations.

DATES: Effective Date: This proposal shall become effective without further notice in 30 calendar days (August 19, 2005) unless comments are received during or before this period which would result in a contrary determination.

Comments Due Date: August 19, 2005.

ADDRESSES: Interested persons are invited to submit comments regarding this notice to the Rules Docket Clerk, Office of General Counsel, Department of Housing and Urban Development, 451 Seventh Street, SW., Room 10276, Washington, DC 20410-0500. Communications should refer to the above docket number and title. Facsimile (FAX) comments are not acceptable. A copy of each communication submitted will be available for public inspection and copying between 8 a.m. and 5 p.m. weekdays at the above address.

FOR FURTHER INFORMATION CONTACT: Jeanette Smith, Departmental Privacy Act Officer, telephone number (202) 708-2374. Regarding records maintained in Washington, DC, contact: Nicole Faison, Rental Housing Integrity Improvement Project (RHIIP) Manager in the Office of Public and Indian Housing and EIV Program Office Project Manager, telephone number (202) 708-0744. [The above are not toll free numbers.] A telecommunications device for hearing and speech-impaired persons (TTY) is available at 1-800-877-8339 (Federal Information Relay Services). (This is a toll-free number).

SUPPLEMENTARY INFORMATION: Pursuant to the Privacy Act of 1974 (5 U.S.C. 552a), as amended, notice is given that HUD proposes to establish a new system of records identified as the Enterprise Income Verification (EIV) system.

Title 5 U.S.C 552a(e)(4) and (11) provide that the public be afforded a 30-day period in which to comment on the new record system. The new system report was submitted to the Office of Management and Budget (OMB), the Senate Committee on Governmental Affairs and the House Committee on Government Reform pursuant to paragraph 4c of Appendix l to OMB Circular No. A-130, “Federal Responsibilities for Maintaining Records About Individuals,” July 25, 1994 (59 FR 37914).

Accordingly, this notice establishes a new system of records and accompanying routine uses to be submitted and accessed initially in the management of rental assistance housing programs by the Office of Public and Indian Housing and eventually in the management of rental assistance housing programs by the Office of Housing.

Authority: 5 U.S.C. 552a; 88 Stat. 1896; 42 U.S.C. 3535(d).

Dated: July 12, 2005.
Edward J. Dorris,
Deputy Chief Information Officer for Business Technology and Modernization.

HUD/PIH-5

SYSTEM NAME:

Enterprise Income Verification (EIV).

SYSTEM LOCATIONS:

The files will be maintained at the following location: U. S. Department of Housing and Urban Development, 451 7th Street, SW., Washington, DC 20410. Lockheed Martin Corporation, located at 4701 Forbes Blvd., Lanham, MD 20706, will monitor access of any encrypted files containing social security and rent information (subject to the provisions of 26 U.S.C. 6103).

CATEGORIES OF INDIVIDUALS COVERED BY THE SYSTEM:

Families receiving rental housing assistance via programs administered by the Department of Housing and Urban Development, Tribally Designated Housing Entities participating in the Section 8 program, PHAs and/or owners and management agents, and State agencies.

CATEGORIES OF RECORDS IN THE SYSTEM:

Records consist of unit address (subsidized property address), family composition, and income data obtained from PHAs. The system of records contains—identification information such as names, dates of birth and social security numbers for individuals; addresses; financial data such as tenant-reported income; data obtained from State Wage Information Collection Agencies on wages and unemployment claim information; data obtained from the Social Security Administration (SSA) on Social Security (SS) and Supplemental Security Income (SSI) benefit information; and data obtained from the National Directory of New Hires (NDNH) on new hire, wages and unemployment claim information; and annual income discrepancies as a result of the comparison of tenant reported income to actual income as reported by third party sources (SWICAs, Federal agencies, and/or private vendors).

AUTHORITY FOR MAINTENANCE OF THE SYSTEM:

Pursuant to the Stewart B. McKinney Homeless Assistance Amendments Act of 1988 and Section 303(i) of the Social Security Act, HUD and HUD-funded PHAs may request wage and claim data from State Wage Information Collection Agencies (SWICAs) responsible for administering state unemployment laws. On October 1, 1994, Section 542(a)(1) of HUD's 1998 Appropriation Act, eliminated a sunset provision to Section 303(i) of the Social Security Act, effectively making permanent the authority requiring state agencies to disclose wage and claim information to HUD and PHAs. On January 23, 2004, Section 453(j) of the Social Security Act (42 U.S.C. 653(j)) was amended to allow HUD to obtain income information from the National Directory of New Hires (NDNH) and disclose this information to PHAs for the purpose of verifying employment and income of rental housing program participants. The Housing and Community Development Act of 1987 authorizes HUD to require applicants for and participants in (as well as members of their households six years of age and older) HUD administered rental housing assistance programs to disclose to HUD their social security numbers as a condition of initial or continuing eligibility for participation in these HUD programs. The Omnibus Budget Reconciliation Act of 1993 (Budget Reconciliation Act) authorizes HUD to request from the Social Security Administration federal tax data as prescribed in section 6103(l)(7) of title 26 of the United States Code (Internal Revenue Code).

PURPOSES:

The primary purpose of EIV is to allow PHAs and, eventually, owners and management agents, to verify tenant reported income, identify unreported income sources and/or amounts received by program participants, and identify substantial annual income discrepancies amongst households that received HUD-provided rental assistance through programs administered by PIH and Housing. The first release of EIV was successfully implemented on August 16, 2004. EIV is a simple, Internet-based integrated system, which enables PHA users, HUD personnel and, eventually, owners and management agents to access a common database of tenant information via their web browser. EIV will aid HUD and entities that administer HUD's assisted housing programs in: (a) Increasing the effective distribution of rental assistance to individuals that meet the requirements of federal rental assistance programs, (b) detecting abuses in assisted housing programs, (c) taking administrative or legal actions to resolve past and current abuses of assisted housing programs, (d) deterring abuses by verifying the income of tenants at the time of annual and interim reexaminations via the use of electronic income data received from State Wage Information Collection Agencies (SWICAs), National Directory of New Hires (NDNH), and the Social Security Administration, (e) evaluating the effectiveness of income discrepancy resolution actions taken by PHAs for some of HUD's rental assistance programs, and (f) reducing administrative burden of obtaining written or oral third party verification (when the tenant does not dispute information provided by EIV). EIV is a management information system that contains tools to help: (1) Improve the income verification process, (2) monitor incidents of potential tenant under reporting of household income (3) produce management reports, and (4) conduct risk assessments.

The Enterprise Income Verification (EIV) system serves as a repository for automated information used when comparing family income data reported by recipients of federal rental assistance to income data received from external sources (e.g., SWICAs, SSA, etc.). Records in PIC and EIV are subject to use in authorized and approved computer matching programs regulated under the Privacy Act of 1974, as amended.

ROUTINE USES OF RECORDS MAINTAINED IN THE SYSTEM, INCLUDING CATEGORIES OF USERS AND PURPOSES OF SUCH USES:

In addition to the uses cited in the section of this document titled “Purposes”, other routine uses may include:

1. To Federal, State, and local agencies (e.g., state agencies administering the state's unemployment compensation laws, state welfare and food stamp agencies, U.S Office of Personnel Management, U.S. Postal Service, U.S. Department of Defense, U.S. Department of Health and Human Services, and U.S. Social Security Administration)—to verify the accuracy and completeness of the data provided, to verify eligibility or continued eligibility in HUD's rental assistance programs, and to aid in the identification of tenant errors, fraud, and abuse in assisted housing programs through HUD's tenant income computer matching program;

2. To individuals under contract to HUD or under contract to another agency with funds provided by HUD—for the preparation of studies and statistical reports directly related to the management of HUD's rental assistance programs, to support quality control for tenant eligibility efforts requiring a random sampling of tenant files to determine the extent of administrative errors in making rent calculations, eligibility determinations, etc., and for processing certifications/re-certifications;

3. To PHAs—to verify the accuracy and completeness of tenant data used in determining eligibility and continued eligibility and the amount of housing assistance received;

4. To private owners and management agents of assisted housing—to verify the accuracy and completeness of applicant and tenant data used in determining eligibility and continued eligibility and the amount of housing assistance received;

5. To PHAs, owners and management agents, and contract administrators—to identify and resolve discrepancies in tenant data; and

6. To researchers affiliated with academic institutions, with not-for-profit organizations, or with Federal, State or local governments, or to policy researchers—without individual identifiers—name, address, Social Security Number—for the performance of research and statistical activities on housing and community development issues.

POLICIES FOR STORING, RETRIEVING, AND DISPOSING OF SYSTEM RECORDS STORAGE:

Records are stored manually in family case files and electronically in office automation equipment. Records are stored on HUD computer servers for field office and PHAs', and eventually, owners' and management agents' access via the Internet to: (1) Obtain social security and supplemental security income data that are not subject to provisions of 26 U.S.C. 6103; (2) obtain wage and unemployment compensation data; and (3) obtain household income discrepancies reports. Software in EIV precludes the transfer of any data subject to 26 U.S.C. 6103 to unencrypted media.

RETRIEVABILITY:

Records may be retrieved by computer search of indices by the Head of Household's name, date of birth, and/or Social Security Number of an existing HUD program participant.

SAFEGUARDS:

Records are maintained at the U.S. Department of Housing and Urban Development in Washington, DC with limited access to those persons whose official duties require the use of such records. Computer files and printed listings are maintained in locked cabinets. Printed listings include masked date of births and social security numbers. Computer terminals are secured in controlled areas, which are locked when unoccupied. Access to automated records is limited to authorized personnel who must use a password system to gain access. HUD will safeguard the SSN, income, and personal identifying information obtained pursuant to 26 U.S.C. 6103(l)(7)(A) and (B) in accordance with 26 U.S.C. 6103(p)(4) and the IRS's “Tax Information Security Guidelines for Federal, State and Local Agencies,” Publication 1075 (REV 6/2000).

RETENTION AND DISPOSAL:

Computerized family records are maintained in a password-protected environment. If information is needed for evidentiary purposes, documentation will be referred to the HUD Office of Inspector General (OIG) in Washington, DC or other appropriate Federal, State or local agencies charged with the responsibility of investigating or prosecuting violators of Federal law. Documents referred to HUD's OIG will become part of OIG's Investigative Files. Records will be retained and disposed of in accordance with the General Records Schedule included in HUD Handbook 2228.2, appendix 14, item 25.

SYSTEM MANAGER AND ADDRESS:

David Sandler, Project Manager of Enterprise Income Verification (EIV) system, U.S. Department of Housing and Urban Development, 550 12th Street SW., First Floor—Desk 1304, Washington, DC 20410.

NOTIFICATION AND RECORD ACCESS PROCEDURES:

Individuals seeking to determine whether this system of records contains information about them, or those seeking access to such records, should address inquiries to the Project Manager of the Rental Housing Integrity Improvement Project (RHIIP) in the Office of Public and Indian Housing and/or EIV Program Office Project Manager, U.S. Department of Housing and Urban Development, 451 7th Street SW., Room 4204, Washington, DC 20410. Written requests must include the full name, Social Security Number, date of birth, current address, and telephone number of the individual making the request.

CONTESTING RECORD PROCEDURES:

Procedures for the amendment or correction of records, and for applicants wanting to appeal initial agency determinations based on data in EIV, appear in 24 CFR part 16.

RECORD SOURCE CATEGORIES:

PIH may receive data from HUD field office staff, Federal Government agencies, State and local agencies, private data sources, owners and management agents, and PHAs. PHAs routinely collect personal and income data from participants in and applicants for HUD's public and assisted housing programs. The data collected by PHAs is entered into the PIC system on-line via the system itself, via PHA-owned software, or via HUD's Family Reporting Software (FRS). Data from PIC is imported into EIV and used to create request files for computer matching programs.

EXEMPTIONS FROM CERTAIN PROVISIONS OF THE ACT:

None.

[FR Doc. E5-3846 Filed 7-19-05; 8:45 am]

BILLING CODE 4210-72-P